DEPARTMENT OF THE INTERIOR

Fish and Wildlife Service

50 CFR Parts 21 and 22

RINs 1018-AG11 and 1018-AT60

Migratory Bird Permits; Changes in the Regulations Governing Falconry and Raptor Propagation; Draft Environmental Assessment on Take of Raptors From the Wild for Falconry and Raptor Propagation

AGENCY: Fish and Wildlife Service, Interior.

ACTION: Notice of availability.

SUMMARY: We, the U.S. Fish and Wildlife Service, announce the availability of a Draft Environmental Assessment (DEA) evaluating the take of raptors from the wild for use in falconry and in raptor propagation. We have prepared this DEA as part of the process we must follow to finalize two rules under the National Environmental Policy Act.

DATES: Send comments on the DEA by September 19, 2006.

ADDRESSES: You may pick up a copy of the DEA or hand-deliver your comments to the Division of Migratory Bird Management, U.S. Fish and Wildlife Service, 4401 North Fairfax Drive, Mail Stop 4107, Arlington, Virginia 22203-1610. The DEA also is available on the Division of Migratory Bird Management Web pages at http://www.fws.gov/migratorybirds/.

FOR FURTHER INFORMATION CONTACT: Dr. George T. Allen, Division of Migratory Bird Management, U.S. Fish and Wildlife Service, at 703-358-1714.

SUPPLEMENTARY INFORMATION: We have prepared this DEA as part of the process we must follow under the National Environmental Policy Act (42 U.S.C. 4321 et seq.) as we move toward finalizing two proposed rules on falconry and raptor propagation. We published proposed falconry regulations on February 9, 2005 (70 FR 6978), in which we proposed numerous changes governing the practice of falconry. We published proposed raptor propagation regulations on October 14, 2005 (70 FR 60052). We proposed few significant changes to the falconry regulations, but for both proposed rules we changed to simpler language for the regulations. We now make available our DEA on the effects of take from the wild for these two activities.

In the DEA, we considered three alternatives for take of raptors from the wild for use in falconry and in raptor propagation. The first, the No Action Alternative, would leave take regulated as it is now; take limits for falconry would not be established. Neither the dual Federal/State permitting system for falconry nor the permitting system for raptor propagation would be changed.

Under Alternative 2, we would establish upper limits on take of raptor species based on the published data for, and biology of, each species. We would not change falconry or captive propagation permitting; neither the dual Federal/State permitting system for falconry nor the permitting system for raptor propagation would be changed. Under this alternative, we would base allowed take on published data and evaluations of the effects of take for falconry and raptor propagation. Harvest of juvenile raptors would be limited to levels that would not harm wild populations.

Our preferred choice is Alternative 3. Under this alternative, we would establish upper limits on take of raptor species based on the published data for, and biology of, each species. We would eliminate Federal permitting for falconry, but would not change the captive propagation regulations in a manner that would impact take of raptors from the wild. We would base allowed take on published data and evaluations of the effects of take for falconry and raptor propagation. Harvest of juvenile raptors would be limited to levels that would not harm wild populations. The Federal/State permitting system for falconry would be changed, with the responsibility for falconry permitting resting with the States, subject to the requirements of revised falconry regulations. The current permitting for raptor propagation would be maintained.

Based on our modeling of raptor populations using the best available survival data, we have concluded that the impact of any of these alternatives on raptor populations would be imperceptible. Our analyses indicate that most raptor populations can sustain significantly more take for falconry and raptor propagation than will occur under any reasonable take scenario.

Public Comments

We welcome comments on the DEA. When submitting written comments, please include your name and return address in your letter and identify it as comments on the DEA. To facilitate our compilation of the Administrative Record for this action, you must submit written comments on 8½ inch by 11 inch paper. Or, you may submit comments electronically via the Migratory Bird Management Web page at http://www.fws.gov/migratorybirds/, where a link for comments will be available. Please submit comments by only one method, do not send duplicate submissions. All comments received, including any personal information provided, will be available for public inspection at the address given above for hand delivery of comments. We will not consider anonymous comments.

Dated: June 12, 2006.
H. Dale Hall,
Director, Fish and Wildlife Service.

[FR Doc. E6-9725 Filed 6-20-06; 8:45 am]

BILLING CODE 4310-55-P